DEPARTMENT OF THE TREASURY

Internal Revenue Service

Advisory Group to the Commissioner of Internal Revenue; Renewal of Charter

AGENCY: Internal Revenue Service (IRS), Treasury.

ACTION: Notice of Charter renewal.

SUMMARY: The Charter for the Internal Revenue Service Advisory Council (IRSAC) has been renewed for one year beginning November 24, 2017.

FOR FURTHER INFORMATION CONTACT: Ms. Anna Millikan, National Public Liaison, at publicliaison@irs.gov.

SUPPLEMENTARY INFORMATION: Notice is hereby given under section 10(a)(2) of the Federal Advisory Committee Act, 5 U.S.C. App. (1988), and with the approval of the Secretary of the Treasury to announce the renewal of the Internal Revenue Service Advisory Council (IRSAC) for a period of one year. The primary purpose of the advisory council is to provide an organized public forum for Internal Revenue Service officials and representatives of the public to discuss relevant tax administration issues. As an advisory body designed to focus on broad policy matters, the IRSAC reviews existing tax policy and/or makes recommendations with respect to emerging federal tax administration issues. The IRSAC suggests operational improvements, offers constructive observations regarding current or proposed IRS policies, programs, and procedures, and suggest improvements with respect to issues having substantive effect on federal tax administration. Conveying the public's perception of IRS activities to Internal Revenue Service officials, the IRSAC is comprised of individuals who bring substantial, disparate experience and diverse backgrounds. Membership is balanced to include representation from the taxpaying public, the tax professional community, small and large business, international, wage and investment taxpayers, digital services, academia, and the applicant's knowledge of Treasury Circular 230.

Dated: November 28, 2017.
John Lipold,
Designated Federal Official.

[FR Doc. 2017-26003 Filed 12-1-17; 8:45 am]

BILLING CODE 4830-01-P